DEPARTMENT OF COMMERCE

National Institute of Standards and Technology

National Artificial Intelligence Advisory Committee

AGENCY: National Institute of Standards and Technology, Department of Commerce.

ACTION: Notice of open meeting.

SUMMARY: The National Institute of Standards and Technology (NIST) announces that the National Artificial Intelligence Advisory Committee (NAIAC or Committee) will hold an open meeting in-person and via web conference on April 25, 2023, between 10:00 a.m. and 3:00 p.m. Eastern time. The primary purpose of the meeting is to discuss the Committee's effort to develop its year one report that will be presented to the President and National Artificial Intelligence Initiative Office. The final agenda will be posted to the NAIAC website: ai.gov/naiac/.

DATES: The meeting will be held on Tuesday, April 25, 2023, between 10 a.m. and 3 p.m. Eastern time.

ADDRESSES: The meeting will be held in-person and via live broadcast from the U.S. Department of Commerce, Herbert C. Hoover Federal Building, located at 1401 Constitution Ave. NW, Washington, DC 20230. For instructions on how to attend and/or participate in the meeting, please see the SUPPLEMENTARY INFORMATION section of this notice.

FOR FURTHER INFORMATION CONTACT: Alicia Chambers, Committee Liaison Officer, National Institute of Standards and Technology, 100 Bureau Drive, MS 1000, Gaithersburg, MD 20899, alicia.chambers@nist.gov or 301-975-5333, or Melissa Banner, Designated Federal Officer, National Institute of Standards and Technology, 100 Bureau Drive, MS 1000, Gaithersburg, MD 20899, melissa.banner@nist.gov or 301-975-5245. Please direct any inquiries to naiac@nist.gov.

SUPPLEMENTARY INFORMATION: Pursuant to the Federal Advisory Committee Act, as amended, 5 U.S.C. App., notice is hereby given that the NAIAC will meet on Tuesday, April 25, 2023, between 10 a.m. and 3 p.m. Eastern Time. The meeting will be open to the public and will be held in-person and via web conference. Interested members of the public will be able to participate in the meeting from remote locations or in-person. The primary purpose of the meeting is to discuss the Committee's effort to develop its year one report that will be presented to the President and National Artificial Intelligence Initiative Office. The final agenda and meeting time will be posted to the NAIAC website: ai.gov/naiac/.

The NAIAC is authorized by Section 5104 of the National Artificial Intelligence Initiative Act of 2020 (Pub. L. 116-283, Div. E), in accordance with the provisions of the Federal Advisory Committee Act, as amended (FACA), 5 U.S.C. App. The Committee advises the President and the National Artificial Intelligence Initiative Office on matters related to the National Artificial Intelligence Initiative. Additional information on the NAIAC is available at ai.gov/naiac/.

Comments: Individuals and representatives of organizations who would like to offer comments and suggestions related to items on the Committee's agenda for this meeting are invited to submit comments in advance of the meeting. Approximately ten minutes will be reserved for public comments, which will be read on a first-come, first-served basis. Please note that all submitted comments will be treated as public documents and will be made available for public inspection. All comments must be submitted via email with the subject line “April 25, 2023, NAIAC Meeting Comments” to naiac@nist.gov by 5:00 p.m. Eastern Time, Monday, April 24, 2023.

Virtual Admittance Instructions: The meeting will be broadcast live via BlueJeans Events and the log-in instructions to join the meeting will be made available on ai.gov/naiac/#MEETINGS.

In-Person Admittance Instructions: Limited space is available on a first-come, first-served basis for anyone who wishes to attend in person. Registration is only required for in-person attendance. Registration details will be posted at ai.gov/naiac/#MEETINGS. Registration will close at 5:00 p.m. Eastern Time on Tuesday, April 18.

Alicia Chambers,
NIST Executive Secretariat.

[FR Doc. 2023-06271 Filed 3-24-23; 8:45 am]

BILLING CODE 3510-13-P